DEPARTMENT OF COMMERCE

National Oceanic and Atmospheric Administration

50 CFR Part 660

[Docket No. 060427113-6113-01; I.D. 092006E]

Fisheries Off West Coast States and in the Western Pacific; West Coast Salmon Fisheries; Inseason Actions #5 and #6 - Modifications of the Commercial Salmon Fishery from U.S.-Canada Border, to Cape Falcon, Oregon

AGENCY: National Marine Fisheries Service (NMFS), National Oceanic and Atmospheric Administration (NOAA), Commerce.

ACTION: Modification of fishing seasons, landing and possession limits and gear restrictions; request for comments.

SUMMARY: NMFS announces that the commercial fishery from the U.S.-Canada Border, to Cape Falcon, Oregon was modified by two inseason actions. Inseason action #5 increased the landing and possession limit to 60 Chinook per vessel per open period effective Saturday, July 29, 2006. Inseason action #6 increased the landing and possession limit for Chinook in the area north of Cape Falcon, OR to the US Canada border to 80 fish per vessel per open period, increased the number of fishing days to 4 days, Saturday through Tuesday, and eliminated the 6 inch (15.24 cm) plug gear restriction effective Saturday, August 19, 2006. All other restrictions remained in effect as announced for the 2006 Ocean Salmon Fisheries. These actions were necessary to conform to the 2006 management goals, and the intended effect was to allow the fishery to operate within the seasons and quotas specified in the 2006 annual management measures.

DATES: Inseason action #5, the modified landing and possession limit of 60 Chinook per open period in the area from the U.S.-Canada border to Cape Falcon, Oregon, was effective 0001 hours local time (l.t.), Saturday, July, 29, 2006. Inseason action #6, which increased the landing and possession limit for Chinook to 80 fish per vessel per open period for the remainder of the season, increased the number of fishing days to 4 days, Saturday through Tuesday, and eliminated the 6 inch (15.24 cm) plug gear restriction, was effective 0001 hours local time (l.t.) Saturday, August 19, 2006. These modifications were effective until the Chinook or coho quotas were taken, or 2359 hours l.t., September 15, 2006, which ever was earlier. After this time the fisheries remain closed until opened through an additional inseason action for the west coast salmon fisheries, which would be published in the Federal Register, or until the effective date of the next scheduled open period announced in the 2006 annual management measures.

Comments will be accepted through October 13, 2006.

ADDRESSES: Comments on these actions must be mailed to D. Robert Lohn, Regional Administrator, Northwest Region, NMFS, NOAA, 7600 Sand Point Way N.E., Bldg. 1, Seattle, WA 98115-0070; or faxed to 206-526-6376. Comments can also be submitted via e-mail at the 2006salmonIA5_6.nwr@noaa.gov address, or through the internet at the Federal eRulemaking Portal: http://www.regulations.gov. Follow the instructions for submitting comments, and include Docket number 060427113-6113-01 and/or I.D. 092006E] in the subject line of the message. Information relevant to this document is available for public review during business hours at the Office of the Regional Administrator, Northwest Region, NMFS.

FOR FURTHER INFORMATION CONTACT: Sarah McAvinchey 206-526-4323.

SUPPLEMENTARY INFORMATION: In the 2006 annual management measures for ocean salmon fisheries (71 FR 26254, May 4, 2006), NMFS announced the commercial fisheries in the area from the U.S.-Canada Border to Cape Falcon, Oregon. The fishery was open July 15 through the earlier of September 15 or an 11,550 preseason Chinook guideline or a 6,800-marked coho quota. The area from Cape Flattery and Columbia Control Zones closed; open Saturday through Tuesday July 15 through August 1; all salmon; landing and possession limit of 35 Chinook and 35 marked coho per vessel per 4-day open period; open August 5 through September 15; Saturday through Monday; all salmon except no chum retention north of Cape Alava, WA, in August and September; landing and possession limit of 30 Chinook and 40 marked coho per vessel per 3-day open period, gear restricted to 6 inch plugs or longer.

On July 27, 2006, the Regional Administrator (RA) consulted with representatives of the Pacific Fishery Management Council, Washington Department of Fish and Wildlife, and Oregon Department of Fish and Wildlife by conference call. Information related to catch to date, the Chinook and coho catch rates, and effort data indicated that the catch was less than anticipated preseason and that provisions designed to slow the catch of Chinook could be modified, by increasing the landing and possession limits. As a result, on July 27, 2006, the states recommended, and the RA concurred, that effective Saturday, July 29, 2006, the landing and possession limit for Chinook would be increased to 60 fish per vessel per open period until the earlier of September 15 or the available quota for Chinook was taken. Subsequently, on August 11, 2006, the RA consulted with the above mentioned parties and determined that previous inseason actions and provisions could be modified further. As a result the states recommended and the RA concurred, that effective Saturday, August 19, 2006, in the area north of Cape Falcon, OR to the US Canada border the landing and possession limit for Chinook would be increased to 80 fish per vessel per open period for the remainder of the season, the number of fishing days per week would be increased to 4 days, Saturday through Tuesday, and the 6 inch (15.24 cm) plug gear restriction would be eliminated. These actions were necessary to conform to the 2006 management goals. The intended effect was to allow the fishery to operate within the seasons and quotas specified in the 2006 annual management measures. Modification in quota and/or fishing seasons is authorized by regulations at 50 CFR 660.409(b)(1)(i) gear modifications are authorized by regulation at 50 CFR 660.409(b)(1)(iv).

The RA determined that the best available information indicated that the catch and effort data, and projections, supported the above inseason actions recommended by the states. The states manage the fisheries in state waters adjacent to the areas of the U.S. exclusive economic zone in accordance with these Federal actions. As provided by the inseason notice procedures of 50 CFR 660.411, actual notice to fishers of the already described regulatory actions were given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (71 FR 26254, May 4, 2006), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily restricting the fishery. These actions are authorized by 50 CFR 660.409 and 660.411 and are exempt from review under Executive Order 12866.

Authority: 16 U.S.C. 1801 et seq.

Dated: September 22, 2006
Alan D. Risenhoover,
Director, Office of Sustainable Fisheries, National Marine Fisheries Service.

[FR Doc. E6-15952 Filed 9-27-06; 8:45 am]

BILLING CODE 3510-22-S